SMALL BUSINESS ADMINISTRATION

[Disaster Declaration #20558 and #20559; NEBRASKA Disaster Number NE-20003]

Presidential Declaration Amendment of a Major Disaster for Public Assistance Only for the State of Nebraska

AGENCY: U.S. Small Business Administration.

ACTION: Amendment 1.

SUMMARY: This is an amendment of the Presidential declaration of a major disaster for Public Assistance Only for the State of Nebraska (FEMA—4808-DR), dated August 20, 2024.

Incident: Severe Storms, Straight-Line Winds, Tornadoes, and Flooding.

Incident Period: May 20, 2024, through June 3, 2024.

DATES: Issued on October 15, 2024.

Physical Loan Application Deadline Date: November 14, 2024.

Economic Injury (EIDL) Loan Application Deadline Date: May 20, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Nebraska, dated August 20, 2024, is hereby amended to extend the deadline for filing applications for physical damages as a result of this disaster to November 14, 2024. This notice is further amended to include the following areas as adversely affected by the disaster.

Primary Counties:

Lincoln, Sarpy.

All other information in the original declaration remains unchanged.

(Catalog of Federal Domestic Assistance Number 59008)

Rafaela Monchek,
Deputy Associate Administrator, Office of Disaster Recovery & Resilience.

[FR Doc. 2024-24894 Filed 10-24-24; 8:45 am]

BILLING CODE 8026-09-P